DEPARTMENT OF COMMERCE

Foreign-Trade Zones Board

[Order No. 1731]

Grant of Authority for Subzone Status, REC Silicon (Polysilicon and Silane Gas), Moses Lake, Washington

Pursuant to its authority under the Foreign-Trade Zones Act of June 18, 1934, as amended (19 U.S.C. 81a-81u), the Foreign-Trade Zones Board (the Board) adopts the following Order:

Whereas, the Foreign-Trade Zones Act provides for “ * * * the establishment * * * of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, the Board's regulations (15 CFR part 400) provide for the establishment of special-purpose subzones when existing zone facilities cannot serve the specific use involved, and when the activity results in a significant public benefit and is in the public interest;

Whereas, the Port of Moses Lake Public Corporation, grantee of Foreign-Trade Zone 203, has made application to the Board for authority to establish a special-purpose subzone at the polysilicon and silane gas manufacturing facility of REC Silicon, located in Moses Lake, Washington (FTZ Docket 22-2009, filed 5-21-2009);

Whereas, notice inviting public comment has been given in the Federal Register (74 FR 25488-25489, 5-28-2009; 74 FR 32112, 7-7-2009; 74 FR 46975, 9-14-2009; 74 FR 51128, 10-5-2009; 75 FR 31762-31763, 6-4-2010), a public hearing was held on September 1, 2009 and the application has been processed pursuant to the FTZ Act and the Board's regulations; and,

Whereas, the Board adopts the findings and recommendations of the examiner's report, and finds that the requirements of the FTZ Act and Board's regulations would be satisfied, and that the proposal would be in the public interest if subject to the restriction listed below;

Now, therefore, the Board hereby grants authority for subzone status for activity related to the manufacturing of polysilicon and silane gas at the facilities of REC Silicon, located in Moses Lake, Washington (Subzone 203B), as described in the application and Federal Register notice, subject to the FTZ Act and the Board's regulations, including Section 400.28, and further subject to a restriction prohibiting the admission of foreign status silicon metal subject to an antidumping or countervailing duty order.

Signed at Washington, DC, this 20th day of December 2010.
Ronald K. Lorentzen,
Deputy Assistant Secretary for Import Administration, Alternate Chairman, Foreign-Trade Zones Board.
Andrew McGilvray,
Executive Secretary.

[FR Doc. 2010-33122 Filed 12-30-10; 8:45 am]

BILLING CODE P